DEPARTMENT OF JUSTICE

Notice of Lodging of Consent Decree Under Sections 107 and 113 of the Comprehensive Environmental Response, Compensation, and Liability Act

Notice is hereby given that on March 14, 2000, a complaint and proposed Consent Decree (“Decree”) in United States v. the Lockheed Martin Corporation (D. CO) Civil Action No. 00-562, was lodged with the United States District Court for the District of Colorado.

The United States filed this action under Sections 107 and 113 of the Comprehensive Environmental Response, Compensation, and Liability Act (“CERCLA”), 42 U.S.C. §§ 9607 and 9613, and RCRA, 42 U.S.C. §§ 6901 et seq. In the complaint, the United States Air Force (“USAF”) seeks, among other things, contribution from Lockheed Martin Corporation (“LMC”) for costs incurred and to be incurred by the USAF for response actions as the PJKS National Priorities List site in Jefferson County, Colorado (“Site”).

The proposed consent decree resolves the USAF's CERCLA Sections 107 and 113 claims against LMC and the contribution claims LMC could bring against the USAF under Section 113(f)(1) of CERCLA, 42 U.S.C. § 9613(f)(1). The proposed decree provides for a cash payment of $3.5 million over 10 years from LMC to the USAF and clean up services from LMC, specified under separate agreement with the USAF, that could ultimately reduce total clean up costs to the USAF by as much as $35.25 million.

The Department of Justice will receive for a period of thirty (30) days from the date of this publication comments relating to the Decree. Comments should be addressed to the Assistant Attorney General of the Environment and Natural Resources Division, Department of Justice, Washington, D.C. 20530, and should refer to, United States v. The Lockheed Martin Corporation (D. CO), and D.J. Ref. #90-11-3-925/1.

The Decree may be examined at the office of the U.S. Attorneys Office for the District of Colorado, 1961 Stout Street, Suite 1200, Denver, CO 80294. A copy of the Decree may be obtained by mail from the Consent Decree Library, P.O. Box 7611, Washington, D.C. 20044-7611. In requesting a copy, please enclose a check in the amount of $15.75 for the Decree or (25 cents per page reproduction cost) payable to the Consent Decree Library.

Joel M. Gross,
Chief, Environmental Enforcement Section, Environment and Natural Resources Division.

[FR Doc. 00-9428 Filed 4-14-00; 8:45 am]

BILLING CODE 4410-15-M